Proclamation 9007 of August 30, 2013

National Childhood Obesity Awareness Month, 2013

By the President of the United States of America

A Proclamation

In the United States, obesity affects millions of children and teenagers, raising their risk of developing serious health problems, including diabetes, cancer, asthma, heart disease, and high blood pressure. While childhood obesity remains a serious public health issue, we have made significant strides toward stemming the tide. After three decades of dramatic increases in obesity rates among America's youth, recent studies by the Centers for Disease Control and Prevention indicate that rates are holding steady and even decreasing in some areas. During National Childhood Obesity Awareness Month, let us build on this momentum and strengthen the trend toward healthier lifestyles and brighter futures for our Nation's children.

First Lady Michelle Obama's Let's Move! initiative is on the front lines in the fight against childhood obesity. With partners across the public and private sectors and through targeted programs, this comprehensive campaign aims to solve the challenge of childhood obesity within a generation. Let's Move! is dedicated to making nutritious food more available and affordable, helping kids get active, and fostering environments that support healthy choices.

To this end, the initiative is always looking for new ways to engage parents, families, kids, and communities. We launched Let's Move! Active Schools to help bring physical activity back into the school day. We are teaming up with mayors, faith leaders, and businesses to make the healthy choice the easy choice for families. And we are working with the Department of Agriculture to provide more nutritious school lunches and snacks.

Through the Affordable Care Act, my Administration is expanding access to services that can help all Americans reach and maintain a healthy weight. Thanks to this law, millions of children can receive obesity screening and counseling at no out-of-pocket cost to their parents. The Affordable Care Act also created the Community Transformation Grant Program, which is tackling the root causes of chronic disease, including poor nutrition and lack of physical activity. Through this initiative, communities across our country are working with public health leaders, businesses, schools, faith-based organizations, and individuals to build partnerships that promote healthy lifestyles.

We all share in the responsibility of helping our Nation's children enjoy longer, healthier lives. Together, we can give them the energy and confidence to learn, excel, and pursue their dreams.

NOW, THEREFORE, I, BARACK OBAMA, President of the United States of America, by virtue of the authority vested in me by the Constitution and the laws of the United States, do hereby proclaim September 2013 as National Childhood Obesity Awareness Month. I encourage all Americans to learn about and engage in activities that promote healthy eating and greater physical activity by all our Nation's children.

IN WITNESS WHEREOF, I have hereunto set my hand this thirtieth day of August, in the year of our Lord two thousand thirteen, and of the Independence of the United States of America the two hundred and thirty-eighth.

[FR Doc. 2013-21820

Filed 9-5-13; 8:45 am]

Billing code 3295-F3